DEPARTMENT OF THE INTERIOR

National Park Service

[N6662; NPS-WASO-NAGPRA-NPS0041399; PPWOCRADN0-PCU00RP14.R50000]

Notice of Inventory Completion: San José State University, San José, CA

AGENCY: National Park Service, Interior.

ACTION: Notice.

SUMMARY: In accordance with the Native American Graves Protection and Repatriation Act (NAGPRA), San José State University has completed an inventory of human remains and has determined that there is no lineal descendant and no Indian Tribe or Native Hawaiian organization with cultural affiliation.

DATES: Upon request, repatriation of the human remains in this notice may occur on or after January 16, 2026.

ADDRESSES: Send written requests for repatriation of the human remains in this notice to Alisha Marie Ragland, San José State University, One Washington Square, San Jose, CA 95192, email alisha.ragland@sjsu.edu.

SUPPLEMENTARY INFORMATION: This notice is published as part of the National Park Service's administrative responsibilities under NAGPRA. The determinations in this notice are the sole responsibility of San José State University, and additional information on the determinations in this notice, including the results of consultation, can be found in its inventory or related records. The National Park Service is not responsible for the determinations in this notice.

Abstract of Information Available

Human remains representing, at least, 13 individuals have been identified. There are no associated funerary objects included in this collection. The individuals associated with this collected were part of a former osteological teaching collection for which no acquisition history or associated provenience documentation exists. No known potentially hazardous substances have been used to treat any of the human remains or associated funerary objects.

Consultation

Invitations to consult were sent to Big Sandy Rancheria of Western Mono Indians of California; Cold Springs Rancheria of Mono Indians of California; Dry Creek Rancheria Band of Pomo Indians, California; Elem Indian Colony of Pomo Indians of the Sulphur Bank Rancheria, California; Federated Indians of Graton Rancheria, California; Kashia Band of Pomo Indians of the Stewarts Point Rancheria, California; Koi Nation of Northern California; Lytton Rancheria of California; Northfork Rancheria of Mono Indians of California; Picayune Rancheria of Chukchansi Indians of California; Santa Rosa Indian Community of the Santa Rosa Rancheria, California; Shingle Springs Band of Miwok Indians, Shingle Springs Rancheria (Verona Tract), California; Table Mountain Rancheria; Tule River Indian Tribe of the Tule River Reservation, California; and the Tuolumne Band of Me-Wuk Indians of the Tuolumne Rancheria of California.

Invitations were also sent to the following non-federally recognized Indian groups: the Amah Mutsun Tribal Band; Amah Mutsun Tribal Band of Mission San Juan Bautista; Costanoan Rumsen Carmel Tribe; Indian Canyon Mutsun Band of Costanoan; Muwekma Ohlone Tribe of the SF Bay Area; Northern Valley Yokut/Ohlone Tribe; Tamien Nation; The Ohlone Indian Tribe; and the Wuksache Indian Tribe/Eshom Valley Band.

The Federated Indians of Graton Rancheria, California; Indian Canyon Mutsun Band of Costanoan; Muwekma Ohlone Tribe of the SF Bay Area; and the Tamien Nation responded to requests and participated in ongoing consultations with San José State University for this collection.

Cultural Affiliation

The following types of information about the cultural affiliation of the human remains in this notice are available: geographical, and Native American traditional knowledge.

The information, including the results of consultation, identified:

1. No known groups connected to the human remains.

2. No known Indian Tribe or Native Hawaiian organization is connected to the human remains.

3. No relationship of shared group identity between the earlier group and an Indian Tribe or Native Hawaiian organization that can be reasonably traced through time.

Determinations

San José State University has determined that:

• The human remains described in this notice represent the physical remains of at least 13 individuals of Native American ancestry.

• No known lineal descendant who can trace ancestry to the human remains in this notice has been identified.

• No Indian Tribe or Native Hawaiian organization with cultural affiliation to the human remains described in this notice has been clearly or reasonably identified.

Requests for Repatriation

Written requests for repatriation of the human remains in this notice must be sent to the authorized representative identified in this notice under ADDRESSES. Requests for repatriation may be submitted by any lineal descendant, Indian Tribe, or Native Hawaiian organization who shows, by a preponderance of the evidence, that the requestor is a lineal descendant or an Indian Tribe or Native Hawaiian organization with cultural affiliation.

Upon request, repatriation of the human remains described in this notice to a requestor may occur on or after January 16, 2026. If competing requests for repatriation are received, San José State University must determine the most appropriate requestor prior to repatriation. Requests for joint repatriation of the human remains are considered a single request and not competing requests. San José State University is responsible for sending a copy of this notice to the Indian Tribes or Native Hawaiian organizations identified in this notice.

Authority: Native American Graves Protection and Repatriation Act, 25 U.S.C. 3003, and the implementing regulations, 43 CFR 10.10.

Dated: November 21, 2025.
Melanie O'Brien,
Manager, National NAGPRA Program.

[FR Doc. 2025-23007 Filed 12-16-25; 8:45 am]

BILLING CODE 4312-52-P